DEPARTMENT OF HOMELAND SECURITY

Federal Emergency Management Agency

[Docket ID FEMA-2017-0002; Internal Agency Docket No. FEMA-B-1471]

Proposed Flood Hazard Determinations

AGENCY: Federal Emergency Management Agency; DHS.

ACTION: Notice; correction.

SUMMARY: On March 16, 2015, FEMA published in the Federal Register a proposed flood hazard determination notice that requires amendment to the information in the table. This notice provides corrections to the table, to be used in lieu of the information published at 80 FR 13594. The table provided here represents the proposed flood hazard determinations and communities affected for Cape May County, New Jersey (All Jurisdictions).

DATES: Comments are to be submitted on or before August 17, 2017.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at www.msc.fema.gov for comparison.

You may submit comments, identified by Docket No. FEMA-B-1471, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 80 FR 13594 in the March 16, 2015, issue of the Federal Register, FEMA published a table titled “Cape May County, New Jersey (All Jurisdictions)”. This table requires amendment as to communities affected by the proposed flood hazard determinations featured in the table.

In this document, FEMA is publishing a table containing the accurate information. The information provided below should be used in lieu of that previously published.

(Catalog of Federal Domestic Assistance No. 97.022, “Flood Insurance.”)

Dated: May 2, 2017.
Roy E. Wright,
Deputy Associate Administrator for Insurance and Mitigation, Department of Homeland Security, Federal Emergency Management Agency.

Community | Community map repository address
Cape May County, New Jersey (All Jurisdictions)
Maps available for inspection online at: http://www.fema.gov/preliminaryfloodhazarddata
Borough of Avalon | Construction Office, 3100 Dune Drive, Avalon, NJ 08202.
Borough of Cape May Point | Clerk's Office, 215 Lighthouse Avenue, Cape May Point, NJ 08212.
Borough of Stone Harbor | Construction Office, 9508 Second Avenue, Stone Harbor, NJ 08247.
Borough of West Cape May | Borough Hall, 732 Broadway, West Cape May, NJ 08204.
Borough of West Wildwood | Borough Hall, 701 West Glenwood Avenue, West Wildwood, NJ 08260.
Borough of Wildwood Crest | Construction Department, 6101 Pacific Avenue, Wildwood Crest, NJ 08260.
Borough of Woodbine | Borough Hall, 501 Washington Avenue, Woodbine, NJ 08270.
City of Cape May | Assessor's Office, 643 Washington Street, Cape May, NJ 08204.
City of North Wildwood | City Hall, 901 Atlantic Avenue, North Wildwood, NJ 08260.
City of Ocean City | Community Operations Department, 115 East 12th Street, Ocean City, NJ 08226.
City of Sea Isle City | City Hall, 233 John F. Kennedy Boulevard, Sea Isle City, NJ 08243.
City of Wildwood | Zoning Office, 4400 New Jersey Avenue, Wildwood, NJ 08260.
Township of Dennis | Dennis Township Municipal Building, 571 Petersburg Road, Dennisville, NJ 08214.
Township of Middle | Middle Township Construction Office, 10 South Boyd Street, Cape May Court House, NJ 08210.
Township of Upper | Upper Township Engineering Office, 2100 Tuckahoe Road, Petersburg, NJ 08270.

[FR Doc. 2017-10181 Filed 5-18-17; 8:45 am]

BILLING CODE 9110-12-P